DEPARTMENT OF THE INTERIOR

Fish and Wildlife Service

50 CFR Part 17

[Docket No. FWS-R4-ES-2021-0097; FXES1111090FEDR-245-FF09E21000]

RIN 1018-BF42

Endangered and Threatened Wildlife and Plants; Threatened Species Status for Pearl River Map Turtle With Section 4(d) Rule; and Threatened Species Status for Alabama Map Turtle, Barbour's Map Turtle, Escambia Map Turtle, and Pascagoula Map Turtle Due to Similarity of Appearance With Section 4(d) Rule; Correction

AGENCY: Fish and Wildlife Service, Interior.

ACTION: Final rule; correction.

SUMMARY: The U.S. Fish and Wildlife Service is correcting a final rule that appeared in the Federal Register on July 12, 2024. The rule added five species of freshwater turtles to the List of Endangered and Threatened Wildlife. The preamble included literature citation errors, and the regulatory text included paragraph designation errors. This document corrects those errors.

DATES: Effective August 12, 2024.

FOR FURTHER INFORMATION CONTACT: James Austin, Field Supervisor, U.S. Fish and Wildlife Service, Mississippi Ecological Services Field Office, 6578 Dogwood View Parkway, Suite A, Jackson, MS 39213; telephone 601-321-1129. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In FR Doc. 2024-15176 appearing on page 57206 in the Federal Register of July 12, 2024, the following corrections are made:

Preamble Corrections

1. On page 57211, near the top of the first column, in the response to Comment 16, “Pearson et al. 2020” is corrected to read, “Pearson et al. 2020b”.

2. On page 57217, at the bottom of the second column and again at the top of the third column, “Buhlman 2014” is corrected to read, “Buhlmann 2014”.

3. On page 57221, in the third column, below the table, “Pearson et al. 2020” is corrected to read, “Pearson et al. 2020a”.

4. On page 57223, at the bottom of the third column, “Pearson et al. 2020” is corrected to read, “Pearson et al. 2020a”.

Regulatory Correction

§ 17.42 [Corrected]

5. On page 57236, in the second column, in § 17.42, the second instance of paragraph (m)(2)(ii) and paragraph (m)(2)(iii) are redesignated as paragraphs (m)(2)(iii) and (iv), respectively.

Madonna Baucum,
Chief, Policy and Regulations Branch, U.S. Fish and Wildlife Service.

[FR Doc. 2024-17458 Filed 8-8-24; 8:45 am]

BILLING CODE 4333-15-P